FEDERAL MARITIME COMMISSION

[Petition No. P1-10]

Petition of Hainan P O Shipping Co., Ltd. For an Exemption From the First Sentence of Section 9(C) of the Shipping Act of 1984; Notice of Filing and Request for Comments

Notice is hereby given that Hainan P O Shipping Co., Ltd. (“Petitioner”), has petitioned the Commission pursuant to Section 16 of the Shipping Act of 1984, 46 U.S.C. 40103, and 46 CFR 502.69 of the Commission's Rules of Practice and Procedure, for an exemption from the first sentence of Section 9(c) of the Shipping Act, 46 U.S.C. 40703. Petitioner is an ocean common carrier currently providing container service outside the U.S. trades. In Mid-August 2010, Petitioner will commence operations in the U.S. transpacific trades, initially serving the trades between the People's Republic of China, Vietnam, and the Republic of Korea, and the U.S. Ports of Los Angeles and Long Beach and inland points via Los Angeles and Long Beach. Petitioner is a controlled carrier as defined by the Shipping Act and subject to Section 9—Controlled Carriers, 46 U.S.C. 40701-40706.

Petitioner seeks an exemption so that it can lawfully reduce its tariff rates, charges, classifications, rules or regulations effective upon publication. Petitioner also notes that the requested relief, if granted, will permit it to operate in the U.S trades on the same terms available to other ocean common carriers, including many controlled carriers that previously have been granted similar relief.

In order for the Commission to make a thorough evaluation of the Petition, interested persons are requested to submit views or arguments in reply to the Petition no later than August 20, 2010. Replies shall consist of an original and 15 copies, be directed to the Secretary, Federal Maritime Commission, 800 North Capitol Street, NW., Washington, DC 20573-0001, and be served on Petitioner's counsel, Neal M. Mayer, Esq., and Paul D. Coleman, Esq., Hoppel, Mayer & Coleman, 10th Floor, 1050 Connecticut Avenue, NW., Washington, DC 20036. One copy of the reply shall be submitted in electronic form (Microsoft Word) by e-mail to Secretary@fmc.gov. Please note that providing the electronic copy does not relieve the filing requirement of an original and 15 copies specified above.

The Petition will be posted on the Commission's Web site at http://www.fmc.gov/reading/Petitions.asp. Replies filed in response to this Petition also will be posted on the Commission's Web site at this location.

Parties participating in this proceeding may elect to receive service of the Commission's issuances in this proceeding through e-mail in lieu of service by U.S. mail. A party opting for electronic service shall advise the Office of the Secretary in writing and provide an e-mail address where service can be made.

Karen V. Gregory,
Secretary.

[FR Doc. 2010-18706 Filed 7-29-10; 8:45 am]

BILLING CODE P